DEPARTMENT OF THE INTERIOR

Bureau of Land Management

[79% to CO-956-1420-BJ-0000-241A; 14% to CO-956-9820-BJ-CO01-241A; 7% to CO-956-1910-BJ-4667-241A]

Colorado: Filing of Plats of Survey

September 28,2001.

The plats of survey of the following described land will be officially filed in the Colorado State Office, Bureau of Land Management, Lakewood, Colorado, effective 10:00 am., September 28, 2001. All inquiries should be sent to the Colorado State Office, Bureau of Land Management, 2850 Youngfield Street, Lakewood, Colorado 80215-7093.

The plat (in three sheets) representing the dependent resurvey of a portion of the subdivisional lines, certain mineral claims, and the subdivision of sections 24 and 25, T 3 N., R. 73 W., Sixth Principal Meridian, Group 1299, Colorado, was accepted July 17, 2001.

The plat representing the dependent resurvey of a portion of the subdivisional lines, a corrective dependent resurvey of a portion of the subdivisional lines, and the subdivision of section 11, T. 8 S., R. 69 W., Sixth Principal Meridian, Group 1267, Colorado, was accepted August 13, 2001.

The plat representing the entire record of the dependent resurvey and metes-and-bounds survey in section 2, T. 5 N., R. 71 W., Sixth Principal Meridian, Group 1283, Colorado, was accepted September 27, 2001.

These surveys were requested by the Forest Service for administrative purposes.

The plat representing the dependent resurvey of a portion of the Eight Standard Parallel North (south boundary), portions of the north boundary, the subdivisional lines, and the subdivision of certain sections, T. 33 N., R. 4 W., New Mexico Principal Meridian, Group 1281, Colorado, was accepted September 13, 2001.

This survey was requested by the Bureau of Indian Affairs for administrative purposes.

The plat representing the entire record of the limited corrective dependent resurvey designed to reflect a new tie to a recently recovered 1919 court ordered survey, T. 1 N., R. 64 W., T. 1 N., R. 64 W., Sixth Principal Meridian, Group 629, Colorado, was accepted August 6, 2001.

The plat representing the dependent resurvey of a portion of the subdivisional lines, and the subdivision of sections 26 and 27, T. 13 S., R. 73 W., Sixth Principal Meridian, Group 1280, Colorado, was accepted August 6, 2001.

The plat representing the dependent resurvey of a portion of the subdivisional lines, and the subdivision of section 3, T. 40 N., R. 6 E., New Mexico Principal Meridian, Group 1284, Colorado, was accepted August 7, 2001.

The plat representing the dependent resurvey of a portion of the Tenth Standard Parallel North, a portion of the subdivisional lines, and the subdivision of section 34, T. 41 N., R. 6 E., New Mexico Principal Meridian, Group 1284, Colorado, was accepted August 7, 2001.

The plat representing the entire record of the corrective dependent resurvey of certain mineral surveys, T. 3 S., R. 72 W., Sixth Principal Meridian, Group 680, Colorado, was accepted August 13, 2001.

The plat representing the entire record of the retracement of certain mineral surveys, the informative traverse of the approximate centerline of Colorado State Highway No. 72, a.k.a. the Peak to Peak Highway, the survey of the boundary of new Lot 54, and a supplemental plat of lot 57, all in the SW1/4 of section 12, T. 1 N., R. 73 W., Sixth Principal Meridian, Group 875, Colorado, was accepted August 13, 2001.

The plat representing the corrective dependent resurvey of a portion of the subdivisional lines, T. 1 S., R. 73 W., Sixth Principal Meridian, Group 1298, Colorado, was accepted August 13, 2001.

The plat representing the limited corrective dependent resurvey of a portion of the subdivisional lines and a portion of section 9, T. 5 N., R. 71 W., Sixth Principal Meridian, Group 1224, Colorado, was accepted August 30, 2001.

The plat representing the dependent resurvey of portions of the east boundary, the subdivisional lines, a portion of Tract 65, and the subdivision of a portion of Tract 65, and a subdivision of sections 24 and 25, Fractional T. 48 N., R. 5 W., New Mexico Principal Meridian, Group 1243, was accepted September 13, 2001.

The supplemental plat creating new lots in the NW¼ of section 17, T. 1 N., R. 71 W., Sixth Principal Meridian, Colorado, was accepted August 6, 2001. This plat is based upon the Dependent Resurvey Plat approved March 13, 1963, the Supplemental Plat approved November 29, 1932, the memo dated March 1, 2001, canceling M.S. 457 Saint Paul lode, the private survey of M.S. 244 Sunshine lode and M.S. 247 Atchison lode, verified by field investigation, and the official records of the following mineral claims, M.S. 619 Fortune lode, M.S. 670 Aragain lode, M.S. 691 El Dorado lode, M.S. 15051 Sailor lode, and M.S. 17058 Worlds Fair lode.

The plat representing the dependent resurvey of portions of the south and east boundaries and the subdivisional lines, and the subdivision of certain sections in T. 2 S., R. 94 W., Sixth Principal Meridian, Colorado, Group 1244, was accepted September 27, 2001.

The plat representing the dependent resurvey of portions of the east boundary and the subdivisional lines, and the subdivision of certain sections in T. 3 S., R. 94 W., Sixth Principal Meridian, Colorado, Group 1244, was accepted September 27, 2001.

These surveys and supplemental plat were requested by the Bureau of Land Management for administrative purposes.

Randall A. Bloom,
Acting Chief Cadastral Surveyor for Colorado.

[FR Doc. 01-28612 Filed 11-14-01; 8:45 am]

BILLING CODE 4310-JB-P